INTERNATIONAL TRADE COMMISSION

[USITC SE-22-049]

Sunshine Act Meetings

Agency Holding the Meeting: United States International Trade Commission.

TIME AND DATE: November 28, 2022 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 701-TA-683 and 731-TA-1594-1596 (Preliminary) (Paper File Folders from China, India, and Vietnam). The Commission currently is scheduled to complete and file its determinations on November 28, 2022; views of the Commission currently are scheduled to be completed and filed on December 5, 2022.

5. Outstanding action jackets: none.

CONTACT PERSON FOR MORE INFORMATION: William Bishop, Supervisory Hearings and Information Officer, 202-205-2595.

The Commission is holding the meeting under the Government in the Sunshine Act, 5 U.S.C. 552(b). In accordance with Commission policy, subject matter listed above, not disposed of at the scheduled meeting, may be carried over to the agenda of the following meeting.

By order of the Commission:
Issued: November 14, 2022.
William Bishop,
Supervisory Hearings and Information Officer.

[FR Doc. 2022-25182 Filed 11-15-22; 4:15 pm]

BILLING CODE 7020-02-P